DEPARTMENT OF COMMERCE

International Trade Administration

[A-201-822]

Stainless Steel Sheet and Strip in Coils from Mexico; Extension of Time Limit for Preliminary Results of Antidumping Duty Administrative Review

AGENCY: Import Administration, International Trade Administration, Department of Commerce.

SUMMARY: Due to the fact that the Department of Commerce (the Department) requires additional information from the respondent, ThyssenKrupp Mexinox S.A. de C.V. and Mexinox USA, Inc. (collectively, Mexinox), in order to complete our analysis, the Department finds that it is not practicable to complete the preliminary results of this review within the original time frame. Accordingly, the Department is extending fully the time limit for completion of the preliminary results of this administrative review until no later than July 31, 2009, which is 365 days from the last day of the anniversary month.

EFFECTIVE DATE: March 2, 2009.

FOR FURTHER INFORMATION CONTACT: Patrick Edwards or Brian Davis, AD/CVD Operations, Office 7, Import Administration, International Trade Administration, U.S. Department of Commerce, 14th Street and Constitution Avenue NW, Washington, DC 20230; telephone: (202) 482-8029 or (202) 482-7924, respectively.

Background

On July 30, 2008, the Department received a timely request from Mexinox for revocation from the antidumping duty order on certain stainless steel sheet and strip (S4) in coils from Mexico. On July 31, 2008, the Department received a timely request from Allegheny Ludlum Corporation, AK Steel Corporation, and North American Stainless, to conduct an administrative review of the antidumping duty order on S4 in coils from Mexico. On August 26, 2008, the Department published a notice of initiation of this administrative review, covering the period of July 1, 2007 to June 30, 2008. See Initiation of Antidumping and Countervailing Duty Administrative Reviews, 73 FR 50308 (August 26, 2008). The current deadline for the preliminary results of this review is April 2, 2009.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds that it is not practicable to complete the preliminary results of this review within the original time frame because additional information from the respondent, Mexinox, is necessary to complete our analysis and we will not have sufficient time to obtain and analyze the new information prior to the current deadline for the preliminary results. Accordingly, the Department is extending fully the time limit for completion of the preliminary results of this administrative review until no later than July 31, 2009. We intend to issue the final results no later than 120 days after publication of the preliminary results notice.

This extension is issued and published in accordance with sections 751(a)(3)(A) and 777(i) of the Act.

Dated: February 23, 2009.
John M. Andersen,
Acting Deputy Assistant Secretary for Import Administration.

[FR Doc. E9-4343 Filed 2-27-09; 8:45 am]

BILLING CODE 3510-DS-S